DEPARTMENT OF COMMERCE

International Trade Administration

[A-588-852]

Structural Steel Beams From Japan: Notice of Final Results of Changed Circumstances Antidumping Duty Administrative Review

AGENCY: Import Administration, International Trade Administration, Department of Commerce.

ACTION: Notice of final results of changed circumstances antidumping duty administrative review.

SUMMARY: On May 14, 2004, the Department of Commerce (“the Department”) published a notice of preliminary results in the above-named case. We received only supportive comments and no request for a hearing. Accordingly, the Department continues to find that Yamato Steel Co., Ltd. (“Yamato Steel”) is the successor-in-interest to Yamato Kogyo Co. Ltd., (“Yamato Kogyo”).

FOR FURTHER INFORMATION CONTACT: Melissa Blackledge or Howard Smith, AD/CVD Enforcement Office IV, Import Administration, International Trade Administration, U.S. Department of Commerce, 14th Street and Constitution Avenue, NW., Washington, DC 20230; telephone (202) 482-3518 and (202) 482-5193, respectively.

SUPPLEMENTARY INFORMATION:

Background

On May 14, 2004, the Department published Notice of Preliminary Results of Antidumping Duty Changed Circumstances Review: Structural Steel Beams From Japan, 69 FR 26807 (Preliminary Results). We gave interested parties 30 days to comment on our preliminary results.

On June 14, 2004, the Department received comments from Yamato Steel in support of the Department's preliminary results. Yamato Steel argues that the Department correctly found, based on the evidence on the record provided by Yamato Steel, that the change in ownership of Yamato Kogyo has not significantly changed the company's management, production facilities, supplier relations, or customer base. Yamato Steel adds that the record contains no contrary facts or objections to the evidence upon which the Department relied in the preliminary results, and therefore, the Department should affirm its preliminary finding in the final results.

The Department received no other comments from interested parties. In addition, the Department did not receive a request for a hearing.

Scope of the Review

For purposes of this review, the products covered are doubly-symmetric shapes, whether hot or cold-rolled, drawn, extruded, formed, or finished, having at least one dimension of at least 80 mm (3.2 inches or more), whether of carbon or alloy (other than stainless) steel, and whether or not drilled, punched, notched, painted, coated, or clad. These products (“Structural Steel Beams”) include, but are not limited to, wide-flange beams (“W” shapes), bearing piles (“HP” shapes), standard beams (“S” or “I” shapes), and M-shapes.

All products that meet the physical and metallurgical descriptions provided above are within the scope of this review unless otherwise excluded. The following products, are outside and/or specifically excluded from the scope of this review:

Structural steel beams greater than 400 pounds per linear foot or with a web or section height (also known as depth) over 40 inches.

The merchandise subject to this review is currently classifiable in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and customs purposes, the written description of the merchandise under review is dispositive.

Final Results of the Review

On the basis of the information on the record of this changed circumstance review, we have determined that Yamato Steel is the successor-in-interest company to Yamato Kogyo for purposes of determining antidumping duty liability in this proceeding. For a complete discussion of the basis for this decision, see the Preliminary Results. Therefore, Yamato Steel shall retain the antidumping duty cash deposit rate assigned to Yamato Kogyo by the Department in the most recent administrative review of the subject merchandise, i.e., zero percent.

Instructions to U.S. Customs and Border Protection

The cash deposit determination from this changed circumstances review will apply to all entries of the subject merchandise entered, or withdrawn from warehouse, for consumption on or after the date of publication of the final results of this changed circumstances review. See Notice of Final Results of Antidumping Duty Changed Circumstances Review: Pressure Sensitive Plastic Tape From Italy, 69 FR 15297, 15298 (March 25, 2004); see also, Certain Hot-Rolled Lead and Bismuth Carbon Steel Products From the United Kingdom: Final Results of Changed-Circumstances Antidumping and Countervailing Duty Administrative Reviews, 64 FR 66880, 66881 (November 30, 1999). This deposit rate shall remain in effect until publication of the final results of the next administrative review in which a review is conducted of Yamato Steel.

Notification

This notice also serves as a reminder to parties subject to administrative protective order(s) (“APO”s) of their responsibility concerning the disposition of proprietary information disclosed under APO in accordance with section 351.306 of the Department's regulations. Timely written notification of the return/destruction of APO materials or conversion to judicial protective order is hereby requested. Failure to comply with the regulations and terms of an APO is a sanctionable violation. This notice is in accordance with sections 751(b) and 777(i)(1) of the Tariff Act of 1930, as amended, and section 351.221(c)(3)(i) of the Department's regulations.

Dated: September 9, 2004.
James J. Jochum,
Assistant Secretary for Import Administration.

[FR Doc. E4-2229 Filed 9-16-04; 8:45 am]

BILLING CODE 3510-DS-P